DEPARTMENT OF STATE

[Public Notice: 7461]

Issuance of a Presidential Permit for a Border Crossing Called “San Ysidro” at the International Boundary Between the United States and Mexico

SUMMARY: The Department of State issued a Presidential permit to the General Services Administration on May 2, 2011, authorizing that agency to expand, renovate, and maintain the commercial and pedestrian border crossing called “San Ysidro” in San Diego, California, at the International Boundary between the United States and Mexico. In making this determination, the Department complied with the procedures required under Executive Order 11423, as amended.

FOR FURTHER INFORMATION CONTACT: Stewart Tuttle, U.S.-Mexico Border Affairs Coordinator, via e-mail at WHA-BorderAffairs@state.gov; by phone at 202-647-9894; or by mail at Office of Mexican Affairs—Room 3909, Department of State, 2201 C St., NW., Washington, DC 20520. Information about Presidential permits is available on the Internet at http://www.state.gov/p/wha/rt/permit/.

SUPPLEMENTARY INFORMATION: Following is the text of the issued permit:

By virtue of the authority vested in me as Under Secretary of State for Economic, Energy, and Agricultural Affairs under Executive Order 11423, 33 FR 11741 (1963), as amended by Executive Order 12847 of May 17, 1993, 58 FR 29511 (1993), Executive Order 13284 of January 23, 2003, 68 FR 4075 (2003), and Executive Order 13337 of April 30, 2004, 69 FR 25299 (2004) and Department of State Delegation of Authority number 118-2 of January 26, 2006; having considered the environmental effects of the proposed action consistent with the National Environmental Policy Act of 1969, as amended (83 Stat. 852, 42 U.S.C. 4321 et seq.) and other statutes relating to environmental concerns; having considered the proposed action consistent with the National Historic Preservation Act of 1966, as amended (80 Stat. 917, 16 U.S.C. 470f et seq.); and having requested and received the views of various of the federal departments and other interested persons; I hereby grant permission, subject to the conditions herein set forth, to the United States General Services Administration (GSA) (hereinafter referred to as the “permittee”), to expand, renovate, operate and maintain a vehicle and pedestrian land border crossing (hereinafter referred to as “San Ysidro”), in San Diego, CA.

* * * * *

The term “facilities” as used in this permit means the facilities to be constructed and/or renovated at the San Ysidro border crossing in San Diego, California, consisting of the following improvements and structures:

• Inspection and X-Ray Facilities

• Main Administrative Building

• A new Auto Inspection building

• Entry and Exit Control Booths

• Southbound Inspection Facilities

• Roadways and related Infrastructure, Pathways, Parking Lots, and related Lots

• Landscaping

• Ancillary Support Facilities

• Non-commercial Inspection facilities and lanes

• Pedestrian Crossings

• Pedestrian Inspection facilities

• Related Improvements and Infrastructure

• Renovation or expansion of the Historic Customs House

• Modifications of the U.S. Border Fence

These facilities are the subject of a Final Environmental Impact Statement (FEIS), which was completed by GSA in August 2009 (http://www.gsa.gov/NEPA_Library), and a Record of Decision by the Acting Regional Administrator, GSA Region 9, dated September 9, 2009, selecting a preferred alternative, specifying certain avoidance, minimization and mitigation measures and adopting a mitigation monitoring and enforcement program. EPA published a notice of availability of the FEIS in the Federal Register (74 FR 39697, August 7, 2009).

This permit is subject to the following conditions:

Article 1. The facilities herein described, and all aspects of their operation, shall be subject to all the conditions, provisions and requirements of this permit and any amendment thereof. This permit may be terminated upon a determination of the Executive Branch that the San Ysidro border crossing shall be closed. This permit may be amended by the Secretary of State or the Secretary's delegate in consultation with the permittee and, as appropriate, other Executive Branch agencies; the permittee's obligation to implement such an amendment is subject to the availability of funds. The permittee shall make no substantial change in the location of the facilities or in the operation authorized by this permit until such changes have been approved by the Secretary of State or the Secretary's delegate.

Article 2. The permittee shall comply with all applicable federal laws and regulations regarding the construction, operation and maintenance of the facilities. Further, the permittee shall comply with nationally recognized codes to the extent required under 40 U.S.C. 3312(b). The permittee shall cooperate with state and local officials to the extent required under 40 U.S.C. 3312(d).

Article 3. In the event that the San Ysidro Port of Entry is permanently closed and is no longer used as an international crossing, this permit shall terminate and the permittee may manage, utilize, or dispose of the facilities in accordance with its statutory authorities.

Article 4. The permittee is a federal agency that is responsible for managing and operating the San Ysidro Port of Entry, as authorized by applicable federal laws and regulations. This permit shall continue in full force and effect for only so long as the permittee shall continue the operations hereby authorized.

Article 5. This Article applies to transfer of the facilities or any part thereof as an operating land border crossing. The permittee shall immediately notify the United States Department of State of any decision to transfer custody and control of the facilities or any part thereof to any other any agency or department of the United States Government. Said notice shall identify the transferee agency or department and seek the approval of the United States Department of State for the transfer of the permit. In the event of approval by the Department of State of such transfer of custody and control to another agency or department of the United States Government, the permit shall remain in force and effect, and the facilities shall be subject to all the conditions, permissions and requirements of this permit and any amendments thereof. The permittee may transfer ownership or control of the facilities to a non-federal entity or individual only upon the prior express approval of such transfer by the United States Department of State, which approval may include such conditions, permissions and requirements that the Department of State, in its discretion, determines are appropriate and necessary for inclusion in the permit, to be effective on the date of transfer.

Article 6. (1) The permittee or its agent shall acquire such right-of-way grants or easements and permits as may become necessary and appropriate.

(2) The permittee shall maintain the facilities and every part thereof.

Article 7. (1) The permittee shall take or cause to be taken all appropriate measures to prevent or mitigate adverse environmental impacts or disruption of significant archeological resources in connection with the construction, operation and maintenance of the facilities, including avoidance, minimization and mitigation measures and the mitigation monitoring and enforcement program adopted by the permittee in the Record of Decision issued in connection with the Final Environmental Impact Statement.

(2) Before issuing the notice to proceed for construction, the permittee shall obtain the concurrence of the U.S. Section of the International Boundary and Water Commission.

Article 8. The permittee shall file any applicable statements and reports that might be required by applicable federal law in connection with this project.

Article 9. The permittee shall not issue a notice to proceed for construction work until the Department of State has provided notification to the permittee that the Department has completed its exchange of diplomatic notes with the Government of Mexico regarding authorization of construction. The permittee shall provide written notice to the Department of State at such time as the construction authorized by this permit is begun, and again at such time as construction is completed, interrupted for more than ninety days or discontinued.

Article 10. This permit is not intended to, and does not, create any right, benefit, or trust responsibility, substantive or procedural, enforceable at law or in equity, by any party against the United States, its departments, agencies, instrumentalities or entities, its officers or employees, in their individual or official capacities, or any other person.

In witness whereof, I, Robert D. Hormats, Under Secretary of State for Economic, Energy, and Agricultural Affairs of the United States, have hereunto set my hand this day of April 15, 2011, in the City of Washington, District of Columbia.

End Permit text.

Dated: May 16, 2011.
Alex Lee,
Director, Office of Mexican Affairs, Department of State.

[FR Doc. 2011-12619 Filed 5-20-11; 8:45 am]

BILLING CODE 4710-29-P